DEPARTMENT OF HOMELAND SECURITY

Federal Emergency Management Agency

[Docket ID FEMA-2013-0009; OMB No. 1660-0100]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 25, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: General Admissions Applications (Long and Short) and Stipend Forms.

Type of Information Collection: Revision of a currently approved collection.

Form Titles and Numbers: FEMA Form 119-25-1, General Admissions Application; FEMA Form 119-25-2, General Admissions Application Short Form; FEMA Form 119-25-5, National Fire Academy Executive Fire Officer Program Application; FEMA Form 119-25-3, Student Stipend Agreement; and FEMA Form 119-25-4, Student Stipend Agreement (Amendment).

Abstract: The National Fire Academy was established to advance the professional development of fire service personnel and other persons engaged in prevention and control activities. The Emergency Management Agency Institute serves as the national focal point for the development and delivery of emergency management training to enhance the capabilities of State, local, and tribal government officials; volunteer organizations; FEMA's disaster workforce; other Federal agencies; and the public and private sectors to minimize the impact of disasters and emergencies on the American public.

Affected Public: Business and other for-profit; not-for-profit institutions; Federal Government; and State, Local, or Tribal Government.

Estimated Number of Respondents: 113,100.

Estimated Total Annual Burden Hours: 12,900.

Estimated Cost: There are no recordkeeping, capital, start-up or maintenance costs associated with this information collection.

Dated: June 12, 2013.
Loretta Cassatt,
Acting Director, Records Management Division, Mission Support Bureau, Federal Emergency Management Agency, Department of Homeland Security.

[FR Doc. 2013-15163 Filed 6-24-13; 8:45 am]

BILLING CODE 9111-72-P